DEPARTMENT OF COMMERCE

Foreign-Trade Zones Board

[Order No. 1621]

Grant of Authority for Subzone Status; Michelin North America, Inc. (Tire Warehousing and Distribution); San Bernardino, CA

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR Part 400) provide for the establishment of special-purpose subzones when existing zone facilities cannot serve the specific use involved, and when the activity results in a significant public benefit and is in the public interest;

Whereas, the Board of Harbor Commissioners of the Port of Long Beach, grantee of FTZ 50, has made application to the Board for authority to establish special-purpose subzone status at the tire and tire accessories warehousing and distribution facility of Michelin North America, Inc., located in San Bernardino, California (FTZ Docket 38-2008, filed 5/28/2008);

Whereas, notice inviting public comment has been given in the Federal Register (73 FR 31812, 6/4/2008); and,

Whereas, the Board adopts the findings and recommendations of the examiner's report, and finds that the requirements of the FTZ Act and the Board's regulations are satisfied, and that approval of the application is in the public interest;

Now, therefore, the Board hereby grants authority for subzone status for activity related to tire warehousing and distribution at the Michelin North America, Inc. facility located in San Bernardino, California (Subzone 50L), as described in the application and Federal Register notice, and subject to the FTZ Act and the Board's regulations, including Section 400.28.

Signed at Washington, DC, this 7th day of May 2009.
Ronald K. Lorentzen,
Acting Assistant Secretary of Commerce for Import Administration, Alternate Chairman, Foreign-Trade Zones Board.

Attest: Andrew McGilvray, Executive Secretary.

[FR Doc. E9-11762 Filed 5-19-09; 8:45 am]

BILLING CODE 3510-DS-P